DEPARTMENT OF JUSTICE

2 CFR Chapter XXVII

5 CFR Chapter XXVIII

8 CFR Chapter V

21 CFR Chapter II

27 CFR Chapter II

28 CFR Chapters I, III, V, and VI

31 CFR Chapter IX

40 CFR Chapter IV

41 CFR Chapter 128

45 CFR Chapter V

48 CFR Chapter 28

[FDMS Docket No. DOJ-LA-2011-0016]

Preliminary Plan for Retrospective Review Under E.O. 13563

AGENCY: Department of Justice.

ACTION: Request for comments.

SUMMARY: As part of its implementation of Executive Order 13563, “Improving Regulation and Regulatory Review,” issued by the President on January 18, 2011, the Department of Justice (the Department) encourages comments on its preliminary plan for the retrospective review of its existing regulations to determine whether any such regulations should be modified, streamlined, expanded, or repealed. The purpose of the Department's review is to make its regulatory program more effective and less burdensome in achieving its regulatory objectives.

Comment Date: Written comments must be postmarked and electronic comments must be submitted on or before July 11, 2011. Commenters should be aware that the electronic Federal Docket Management System will not accept comments after 11:59 p.m. Eastern Time on the last day of the comment period.

ADDRESSES: Comments may be mailed to OLP Regulatory Docket Clerk, Department of Justice, 950 Pennsylvania Avenue, NW., Room 4250, Washington, DC 20530. To ensure proper handling, please reference FDMS Docket No. DOJ-LA-2011-0016 on your correspondence. You may also submit comments electronically or view an electronic version of this notice and of the plan at http://www.regulations.gov, at Docket No. DOJ-LA-2011-0016.

FOR FURTHER INFORMATION CONTACT: Robert Hinchman, Senior Counsel, Office of Legal Policy, Department of Justice, 950 Pennsylvania Avenue, NW., Room 4252, Washington, DC 20530; Telephone (202) 514-8059.

SUPPLEMENTARY INFORMATION: Posting of Public Comments. Please note that all comments received are considered part of the public record and made available for public inspection online at http://www.regulations.gov. Such information includes personal identifying information (such as your name, address, etc.) voluntarily submitted by the commenter. Personal identifying information identified and located as set forth above will be placed in the agency's public docket file, but not posted online. If you wish to inspect the agency's public docket file in person by appointment, please see the FOR FURTHER INFORMATION CONTACT paragraph.

The Department understands that the public comment period set forth in this Request for comments is shorter than the 60-day comment period normally given for proposed rules. However, in this Request for comments (which is not, of course, a proposed rule), the Department is not asking for detailed, lengthy comments on its regulations, but only on matters pertaining to the Department's preliminary retrospective review plan.

Overview

On January 18, 2011, the President issued Executive Order 13563, “Improving Regulation and Regulatory Review,” to ensure that Federal regulations seek more affordable, less intrusive means to achieve policy goals, and that agencies give careful consideration to the benefits and costs of those regulations. As part of the Department's implementation of the Executive Order, on March 1, 2011, it published a Request for Information (RFI) seeking public comment on how best to review its existing regulations and to identify whether any of its existing regulations should be modified, streamlined, expanded, or repealed. (76 FR 11163) Before the comment period closed on March 30, 2011, the Department received ten comments. The comments are summarized in the Department's Preliminary Plan for Retrospective Review of Existing Regulations (May 18, 2011), which is posted on http://www.regulations.gov at Docket No. DOJ-LA-2011-0016, and is also available on the Department's main Web site at http://www.justice.gov/.

Consistent with the Department's commitment to public participation in the rulemaking process, the Department is now by this Request for comments soliciting views from the public on its Preliminary Plan for Retrospective Review of its regulations. The Department is also soliciting additional candidate rules for review, and specifically inviting comments that identify why particular rules should be prioritized for review under the standards we lay out in the plan.

To comment on the Justice Department's preliminary plan, visit http://www.regulations.gov and insert DOJ-LA-2011-0016 in the “Enter Keyword or ID” box. Once you are taken to the docket for the plan, click on the “Submit a Comment” bubble to open the comment form. We look forward to hearing from you.

The Department notes that this Request for comments is issued solely for information and program-planning purposes. The Department will give careful consideration to the responses, and may use them as appropriate during the retrospective review, but we do not anticipate providing a point-by-point response to each comment submitted. While responses to this Request for comments do not bind the Department to any further actions related to the response, all submissions will be made publically available on http://www.regulations.gov.

Dated: June 2, 2011.
Christopher H. Schroeder,
Assistant Attorney General, Office of Legal Policy.

[FR Doc. 2011-14089 Filed 6-9-11; 8:45 am]

BILLING CODE 4410-BB-P